DEPARTMENT OF THE INTERIOR

Fish and Wildlife Service

50 CFR Part 17

RIN 1018-AF75

Endangered and Threatened Wildlife and Plants; Re-opening of Comment Period for the Proposal to List Hackelia venusta (Showy Stickseed)

AGENCY: Fish and Wildlife Service, Interior.

ACTION: Proposed rule; re-opening of comment period.

SUMMARY: We, the U.S. Fish and Wildlife Service (Service), announce the re-opening of the comment period for the proposed listing as endangered for Hackelia venusta (showy stickseed) under the Endangered Species Act of 1973, as amended (Act). We are re-opening the comment period to accommodate the public notice requirement of the Act. Comments previously submitted need not be resubmitted as they will be incorporated into the public record as part of this extended comment period and will be fully considered in the final rule.

DATES: We will accept public comments until December 7, 2001.

ADDRESSES: Written comments and information should be submitted to Field Supervisor, Western Washington Fish and Wildlife Office, U.S. Fish and Wildlife Service, 510 Desmond Drive SE., Suite 102, Lacey, Washington 98503-1263. For the electronic mail address, and further instructions on commenting, refer to Public Comments Solicited section of this notice.

FOR FURTHER INFORMATION CONTACT: For general information, contact Ted Thomas or James Michaels, at the above address (telephone 360/753-9440; facsimile 360/753-9518).

SUPPLEMENTARY INFORMATION:

Background

Hackelia venusta (showy stickseed) is a showy perennial herb of the Borage family (Boraginaceae). It is a short, moderately stout species, 20 to 40 centimeters (cm) (8 to 16 inches (in.)) tall, often with numerous, erect to ascending stems from a slender taproot, and has large, white, five-lobed flowers (Barrett et al. 1985). Hackelia venusta grows in openings within the ponderosa pine (Pinus ponderosa) and Douglas-fir (Pseudotsuga menziesii) forest types in one location in Tumwater Canyon, Chelan County, Washington. This population contains approximately 140 plants. Threats to this species include competition and shading from native trees and shrubs, encroachment by nonnative plant species, wildfire and fire suppression, and low seedling establishment. Reproductive vigor may be depressed because of the plant's small population size and limited gene pool.

Pursuant to the Endangered Species Act of 1973, as amended (Act) (16 U.S.C. 1531 et seq.), Hackelia venusta was proposed for listing as an endangered species on February 14, 2000 (65 FR 7339). The original comment period closed on April 14, 2000. We intend to re-open the comment period for an additional 30 days to allow all interested parties to comment on the proposed rule.

Public Comments Solicited

We will accept written comments and information during this re-opened comment period. If you wish to comment, you may submit your comments and materials concerning this proposal by any of several methods:

(1) You may submit written comments and information to the Field Supervisor, Western Washington Fish and Wildlife Office, U.S. Fish and Wildlife Service, 510 Desmond Drive SE., Suite 102, Lacey, Washington 98503-1263.

(2) You may send comments by electronic mail (e-mail) to: fw1wwo_showystickseed@r1.fws.gov. If you submit comments by e-mail, please submit them as an ASCII file and avoid the use of special characters and any form of encryption. Please also include “Attn: RIN 1018-AF75” and your name and return address in your e-mail message. If you do not receive a confirmation from the system that we have received your e-mail message, contact us directly by calling our Western Washington Fish and Wildlife Office at telephone number 360/753-9440.

(3) You may hand-deliver comments to our Western Washington Fish and Wildlife Office at the address given above.

Comments and materials received, as well as supporting documentation used in preparation of the proposal to designate critical habitat, will be available for inspection, by appointment, during normal business hours at the address under (1) above. Copies of the proposed rule is available on the Internet at our website “www.fws.gov” or by writing to the Field Supervisor at the address under (1) above.

Authors

The primary authors of this notice is Barb Behan, U.S. Fish and Wildlife Service, Regional Office, 911 NE. 11th Avenue, Portland, Oregon 97232-4181, and Ted Thomas (see ADDRESSES section).

Authority: The authority for this action is the Endangered Species Act of 1973 (16 U.S.C. 1531 et seq.).

Dated: September 28, 2001.
Donald V. Friberg,
Acting Regional Director, Region 1, Fish and Wildlife Service.

[FR Doc. 01-27892 Filed 11-6-01; 8:45 am]

BILLING CODE 4310-55-P